DEPARTMENT OF AGRICULTURE

Forest Service

Rio Grande National Forest; Colorado; Revision of the Land Management Plan for the Rio Grande National Forest

AGENCY: Forest Service, USDA.

ACTION: Notice of intent to prepare an environmental impact statement.

SUMMARY: As directed by the National Forest Management Act, the USDA Forest Service is preparing the revised land management plan (forest plan) for the Rio Grande National Forest. The agency will prepare an environmental impact statement (EIS) for the revised plan. The revised forest plan will supersede the existing forest plan previously approved by the responsible official for the Rio Grande National Forest in 1996. The existing forest plan has been amended several times since its approval. The existing forest plan, as amended, will remain in effect until the revised forest plan is approved. The plan will be revised under the 2012 Planning Rule and will provide for social, economic and ecological sustainability within Forest Service authority and the inherent capability of the plan area.

DATES: Comments concerning the scope of the analysis will be accepted throughout the entire plan revision process, however members of the public who wish to establish standing to participate in the administrative review process must submit substantive formal comments on the plan revision within 45 days of the publication of the Legal Notice in the Valley Courier in accordance with 36 CFR 219 Subpart B.

ADDRESSES: Comments may be sent in one of the following ways: (1) Via the Forest Plan Revision email address: rgnf_forest_plan@fs.fed.us or (2) send or deliver written comments to the Rio Grande National Forest's Supervisor's Office, Attn: Forest Plan Revision, 1803 W. Highway 160, Monte Vista, CO 81144.

FOR FURTHER INFORMATION CONTACT: Erin Minks, Forest Planner, eminks@fs.fed.us, 719-852-6215 or Mike Blakeman, Public Affairs Officer, mblakeman@fs.fed.us, 719-852-6212. Information on plan revision is also available at the forest Web site www.fs.usda.gov/riogrande. Individuals who use telecommunication devices for the deaf (TDD) may call the Federal Information Relay Service (FIRS) at 1-800-877-8339 between 8 a.m. and 8 p.m. Eastern Time, Monday through Friday.

SUPPLEMENTARY INFORMATION:

Purpose and Need for Action

The purpose and need for revising the Rio Grande forest plan is primarily the age of the current plan and a significant changed condition on the forest. According to the National Forest Management Act, forest plans are to be revised on a 10 to 15 year cycle. The current forest plan is 20 years old and has been amended seven times. Since the forest plan was approved in 1996, there have also been significant changes in economic, social, and ecological conditions in the plan area, including the infestation of 588,000 acres of the spruce by the spruce beetle.

The purpose and need for revising the current plan is also to incorporate new policies, priorities, information from monitoring reports and scientific research as required under the 2012 Planning Rule. The Rio Grande has completed monitoring reports annually from 1997 through 2013. The 2012 Planning Rule, which became effective May 9, 2012, requires inclusion of plan components that address social and economic sustainability, ecosystem services, and multiple uses integrated with the plan components for ecological sustainability and species diversity. Social and economic management direction is needed to provide people and communities with a range of social and economic benefits for present and future generations. To meet the Planning Rule's requirement to provide for ecological sustainability, management direction is also needed that addresses ecosystem integrity and diversity, including key ecosystem characteristics, in light of changes in climate, land ownership and recreational use patterns, as well as other threats and stressors to those ecosystems.

Revised plan components are needed that focus on maintaining or restoring aquatic and terrestrial ecosystems to provide for species diversity including threatened and endangered species, and species of conservation concern. Additionally, updates and modifications to management direction are needed to address suitability of certain areas for particular uses, address access and sustainable recreation and provide for the management of existing and anticipated uses. The 2012 Planning Rule also requires the identification of acreage suitable for timber harvest on the forest, the re-evaluation of the maximum quantity of timber that may be removed from the plan area, a description of the proposed and possible actions related to the planned timber sale program, timber harvesting levels, and the proportion of various methods of forest vegetation management practices.

Most importantly, the purpose and need is to address the identified needs to change the existing plan presented to the public in March 2016 and refined into an initial proposal in July 2016. These needs for change were identified through the monitoring reports mentioned above, internal staff recommendations, and the assessment phase of the revision process which was initiated in December 2014 and completed in March 2016. Extensive public and employee involvement, along with science-based evaluations, have helped identify these preliminary needs to change the existing forest plan. During the assessment phase alone, over fifty public meetings were held in multiple forums to engage the public on the current condition and potential needs to change the management of the forest. Upon completion of the assessment phase, two additional rounds of meetings were held on each district in March and July of 2016 to discuss and further refine the needs for change and initial proposal summarized in the proposed action items described below.

Proposed Action

The Proposed Action is to revise the forest plan to address the needs to change the existing forest plan presented to the public in March 2016 and refined into the initial proposal in July of 2016.

The Rio Grande National Forest is proposing to establish a new adaptive management framework that will guide development of the forest plan direction and required components for the next 10 to 15 years. This framework is designed to increase the responsiveness of forest managers to changing conditions on the landscape, changes in higher level direction, and new technologies that are not yet foreseen. This framework was developed with the public through the spring and summer of 2016 and includes an overarching geographic area layer above the forest's existing management area layer, tiered to levels of active management, the forest's discretion in said management, and the current legal status of the land. This framework provides a vehicle for the future plan to better communicate how the agency manages the forest, a common theme heard throughout the public process.

The Proposed Action also includes forest-wide goals, objectives and desired conditions tied to management areas, tiered to this management framework and directed by the 2012 Planning Rule. Many of these objectives and desired conditions are pulled from the existing 1996 Forest Plan but are organized differently to fit into this overall adaptive management framework. To ensure for management accountability, however, the forest will develop additional required plan components, including standards, guidelines, and suitability determinations during the scoping process and analysis to reflect this adaptive management strategy while ensuring for ecosystem integrity, sustainability, habitat connectivity and the viability of species of conservation concern.

The Proposed Action identifies watersheds that are a priority for maintenance and restoration. It also includes an estimate of what may be suitable timber acreage for the next 10-15 years on the forest, as well as proposal for fire management zones at the geographic level reflecting the level of risk and benefit involved in managing fire for resource benefit.

The forest also intends to re-evaluate the suitability of national forest lands to support other multiple uses, including over the snow vehicle use, communication sites, and utility corridors during analysis, following the development of alternatives to the proposed action with the public.

The Proposed Action identifies 34 stream reaches to be taken into analysis for potential inclusion in the National Wild and Scenic River System first presented to the public in draft form in July 2016.

The forest is still evaluating areas for wilderness character pursuant to Chapter 70 direction in the Forest Service Handbook 1909.12. The final decision will reflect the analysis of alternatives developed during scoping and a broad range of recommendations.

The Proposed Action also describes a monitoring strategy as part of the adaptive management framework while ensuring for accountability. It identifies eight monitoring topics required by the 2012 Planning Rule, describes a developing partnership with the State and Private Forestry Forest Inventory and Analysis program to share information currently being collected on the forest. It also establishes an expectation of an annual information sharing meeting with the public to gauge the implementation of the revised plan and any potential needs for change which might require a forest-plan amendment or administrative change. Specific monitoring questions to inform plan components will be developed during scoping and refined during analysis.

Lead and Cooperating Agencies

Throughout the revision process the Rio Grande National Forest is the Lead Agency. The following entities have been formally identified as Cooperating Agencies: Bureau of Land Management, State of Colorado Department of Natural Resources, the counties of Alamosa, Conejos, Saguache, Hinsdale, Rio Grande, and Mineral, and the Navajo Nation.

Responsible Official

Dan Dallas, Forest Supervisor, Rio Grande National Forest, 1803 W. Highway 160, Monte Vista, CO 81144, 719-852-5941.

Nature of Decision To Be Made

As the forest plan is revised, the responsible official will use the National Environmental Policy Act (NEPA) process to develop alternatives to the proposed action and decide which alternative best promotes the ecological integrity and sustainability of the Rio Grande National Forest's ecosystems, watersheds, and diverse plant and animal communities. In addition, the responsible official will decide if the plan provides sufficient management guidance to contribute to social and economic sustainability, and to provide people and communities with ecosystem services and multiple uses including a range of social, economic, and ecological benefits for the present and into the future. The responsible official will also determine whether to make new recommendations for Wilderness and other designated areas.

The revised forest plan will provide strategic direction and a framework for decision making during the life of the plan, and will not repeat information already required or described in existing laws, regulations, or guidance. It will not make site-specific project decisions and will not dictate day-to-day administrative activities needed to carry on the Forest Service's internal operations. The authorization of project-level activities will be based on the direction contained in the revised forest plan, but will occur through subsequent project specific decision making, including NEPA analysis. The revised forest plan will provide broad, strategic guidance designed to supplement, not replace, overarching laws and regulations. Though strategic guidance will be provided, no decisions will be made regarding the management of individual roads or trails, such as those that might be associated with a travel management plan under 36 CFR part 212. Some issues, although important, are beyond the authority or control of a forest plan and will not be addressed during this revision process. For example, the revision process cannot be used to modify inventoried roadless area boundaries established by the Colorado Roadless Rule.

Scoping Process

This notice of intent initiates the scoping process, which guides the development of the EIS. Written comments received in response to this notice will be analyzed to further develop the proposed revised forest plan and identify potential significant issues. Significant issues will, in turn, form the basis for developing alternatives to the proposed action.

It is important that reviewers provide their comments such that they are useful to the agency's preparation of the EIS. Comments on the proposed action will be most valuable if received within 45 days of the publication of the Legal Notice in the Valley Courier newspaper and should clearly articulate the reviewer's opinions and concerns. Comments received in response to this solicitation, including names and addresses of those who comment, will become part of the public record. Comments submitted anonymously will be accepted and considered; however, anonymous comments will not provide the Agency with the ability to provide the respondent with subsequent environmental documents. See the section below concerning the objection process and the requirements for filing an objection.

The Forest Service continues to receive comments related to the draft evaluation of areas for wilderness character presented to the public in July 2016. The areas analyzed will form the basis for recommendations for future Wilderness designation.

Decision Will Be Subject to Objection

The decision to approve the revised forest plan for the Rio Grande National Forest will be subject to the objection process identified in 36 CFR 219 Subpart B (219.50 to 219.62). According to 36 CFR 219.53(a), those who may file an objection are individuals and entities who have submitted substantive formal comments related to plan revision during the opportunities provided for public comment during the planning process.

Documents Available for Review

The 1996 Forest Plan as amended, Monitoring Reports; Assessments; March 2016 Need for Change; July 2016 Initial Proposal; Proposed Action and supporting documents; and information from previous public meetings are posted on the Rio Grande National Forest's Web site at www.fs.usda.gov/riogrande. The material available on this site may be revised or updated at any time as part of the planning process.

Authority: 16 U.S.C. 1600-1614; 36 CFR part 219 [77 FR 21162-21276].

Dated: September 6, 2016.
Dan Dallas,
Forest Supervisor, Rio Grande National Forest.

[FR Doc. 2016-21837 Filed 9-9-16; 8:45 am]

BILLING CODE 3411-15-P